ENVIRONMENTAL PROTECTION AGENCY

40 CFR Part 52

[EPA-R05-OAR-2021-0640; FRL-10117-01-R5]

Air Plan Approval; Indiana; Revisions to Particulate Matter Rules; Vertellus

AGENCY: Environmental Protection Agency (EPA).

ACTION: Proposed rule.

SUMMARY: The Environmental Protection Agency (EPA) is proposing to approve a revision to the Indiana particulate matter State Implementation Plan (SIP) for the Vertellus Agriculture and Nutrition Specialties, LLC (Vertellus) facility located in Indianapolis, Marion County. Indiana submitted a request to revise its particulate matter SIP to incorporate site-specific updates to the particulate matter emission limits for Vertellus. The updates reflect revised emission rates for particulate matter resulting from process changes related to control strategies for other pollutants. The SIP submission requests also remove units no longer in operation as well as update language to reflect a switch from petroleum oil to natural gas for certain units. These site-specific SIP submissions represent a decrease in overall particulate matter emissions. Therefore, EPA is proposing to approve them as SIP-strengthening measures.

DATES: Comments must be received on or before October 31, 2022.

ADDRESSES: Submit your comments, identified by Docket ID No. EPA-R05-OAR-2021-0640 at https://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Alisa Liu, Environmental Engineer, Control Strategies Section, Air Programs Branch (AR18J), Environmental Protection Agency, Region 5, 77 West Jackson Boulevard, Chicago, Illinois 60604, (312) 353-3193, liu.alisa@epa.gov. The EPA Region 5 office is open from 8:30 a.m. to 4:30 p.m., Monday through Friday, excluding Federal holidays and facility closures due to COVID-19.

SUPPLEMENTARY INFORMATION: Throughout this document whenever “we,” “us,” or “our” is used, we mean EPA.

I. Background

On September 16, 2021, the Indiana Department of Environmental Management (IDEM) submitted a request to revise its particulate matter SIP. On January 4, 2022, IDEM submitted a supplemental letter and technical support document with supporting information. The requested SIP revisions would incorporate updates to Indiana's particulate matter rules for Vertellus at 326 Indiana Administrative Code (IAC), Title 326, Article 6.5, Rule 6. Marion County, “Vertellus Agriculture & Nutrition Specialties LLC” (326 IAC 6.5-6-31), which became effective on September 19, 2021. (Indiana Rule LSA #19-82)

Vertellus is a chemical manufacturing company that currently operates six boilers, six heaters, and six furnaces at their facility on Tibbs Avenue on the southwest side of Indianapolis. The facility is located within the Wayne Township, Marion County portion of the Indianapolis maintenance area for the 2010 1-hour sulfur dioxide (SO2) National Ambient Air Quality Standard (NAAQS). As part of its attainment demonstration for the 2010 SO2 NAAQS, Indiana adopted new SO2 emissions limits at 326 IAC 7-4-2.1(a)(4) that took effect on January 1, 2017. Compliance with the new SO2 limits necessitated process changes at Vertellus that determined which units were discontinued and which fuels were burned, resulting in the need for the adjustments to the particulate matter emission limits at 326 IAC 6.5-6-31.

The particulate matter limits currently in the SIP were established as part of the attainment demonstration for the Indianapolis, Indiana 2010 SO2 nonattainment area. By way of background, the Indianapolis, Indiana area consisting of Center, Perry and Wayne Townships in Marion County was designated nonattainment for the 2010 SO2 NAAQS under Subpart 107 of the Clean Air Act (CAA) on July 25, 2013, when EPA made its initial designations based upon air quality monitoring data for calendar years 2009-2011. The area designation was effective October 4, 2013. 78 FR 47191 (August 5, 2013). Within 18 months of the effective date, i.e., by April 4, 2015, Indiana was required under CAA sections 191(a) and 192(a) to submit a nonattainment SIP to EPA that demonstrated that the Indianapolis area would attain the NAAQS as expeditiously as practicable, but no later than 5 years from the effective date of designation, which was October 4, 2018. 83 FR 4087 (August 15, 2018).

On October 2, 2015, Indiana submitted an attainment plan for the Indianapolis nonattainment area as a revision to Indiana's SIP for attaining the 2010 SO2 NAAQS. The attainment plan included an attainment demonstration and technical support document ¹ prepared by IDEM that addressed six sources of SO2 in Marion County, including Vertellus. Using dispersion modeling, Indiana demonstrated that air quality meeting the 2010 SO2 NAAQS would be attained with revised SO2 emission limits for the six sources, which Indiana adopted on September 2, 2015 into 326 IAC 7-4-2.1, including limits for Vertellus at 326 IAC 7-4-2.1(a)(4). The revised emission limits took effect on January 1, 2017. On March 11, 2019, EPA approved the SIP revisions that Indiana submitted on October 2, 2015 for attaining the 2010 SO2 NAAQS for the Indianapolis area. 84 FR 10692 (March 22, 2019).

¹ August 2015, “1-Hour Sulfur Dioxide Attainment Demonstration and Technical Support Document for Central, West Central, and Southwest Indiana Nonattainment Areas”. Prepared by Indiana Department of Environmental Management, Office of Air Quality. EPA-R05-OAR-2015-0700-0003.

On July 10, 2017, IDEM submitted a redesignation request and maintenance plan. On April 24, 2020, EPA redesignated the Indianapolis area to attainment of the 2010 SO2 NAAQS and approved the maintenance plan. 85 FR 30844 (May 21, 2020).

II. What has Indiana revised in 326 IAC 6.5-6-31?

On May 3, 2018, Vertellus requested IDEM revise its particulate matter emission limits at 326 IAC 6.5-6-31 for its units that were impacted by the revised SO2 emission limits at 326 IAC 7-4-2.1(a)(4). IDEM initiated a first notice and comment period for rulemaking to revise 326 IAC 6.5-6-31 on February 13, 2019, and published the final rule on September 15, 2021. As requested by Vertellus, IDEM's revisions changed the particulate matter emission limits on several units where Vertellus made process and fuel changes to comply with the revised SO2 emission limits. Additionally, the revisions removed limits and references to units at the facility that are no longer operating or were demolished.

The revisions at 326 IAC 6.5-6-31 also updated existing language and added new language related to the types of fuel burned in certain units. Part of Indiana's SO2 control strategy in the Indianapolis area was to restrict the usage of petroleum oil burned at several Vertellus units, so the adopted revisions at 326 IAC 6.5-6-31 reflect a switch to 100 percent natural gas for certain units and only natural gas or landfill gas for certain other units. Compared to petroleum oil, burning natural gas at these units reduces SO2 emissions, enables Vertellus to remain in compliance with the new SO2 emission limits, and ensures continued attainment of the 2010 SO2 NAAQS. The process changes that determined which units were discontinued and which fuels were burned resulted in the need for increases in particulate matter mass and rate-based emission limits for some of the Vertellus units and decreases for other units.

III. What are the environmental effects of this action?

This SIP revision will result in a reduction in allowable particulate matter annual mass emissions and have a strengthening effect on the SIP by reducing emission limits, switching fuels to natural gas, reducing the amount of landfill gas burned, and removing allowable emissions listed for units that are no longer used or were demolished.

Vertellus projected that the rule revisions will reduce particulate matter emissions by 14.1 tons per year compared to the emissions allowed under Indiana's current SIP. To address section 110(l) of the CAA, the technical support document details the decrease in allowable particulate matter emission from 38.0 to 23.9 tons per year as a result of a decrease of 14.8 tons per year total from twelve units offset by an increase of 0.7 tons per year total from 4 units.

To demonstrate that any increase in particulate emission limits allowed under revised 326 IAC 6.5-6.31 would still be protective of the NAAQS for particulate matter less than 2.5 and 10 microns in diameter (PM2.5, PM10), Indiana performed dispersion modeling using AERMOD version 18081. Based on a comparison of allowable particulate matter emissions from the current limits compared to the revised limits, IDEM's modeling showed decreased emission concentrations at each of the modeled receptors. EPA has reviewed IDEM's modeling and projected emission reductions and finds that IDEM demonstrated that the SIP revision will not have an adverse impact on particulate matter air quality or interfere with the attainment or maintenance of the SO2 NAAQS in accordance with section 110(l) of the CAA.

IV. Public Comment and Hearings

Indiana offered two comment periods on this proposed rule. The first was from February 13, 2019, to March 15, 2019, and the second was from February 12, 2020, through March 13, 2020. No comments were received during the first or second comment period. Indiana also held public hearings on November 18, 2020, and February 10, 2021, through an online platform. No comments were made during the hearings.

V. What action is EPA taking?

EPA is proposing to approve Indiana's September 16, 2021, request to revise its particulate matter SIP because the revised rule at 326 IAC 6.5-6-31 applicable to Vertellus strengthens the SIP by reducing allowable particulate matter emissions.

VI. Incorporation by Reference

In this proposed rule, EPA is proposing to include in a final EPA rule regulatory text that includes incorporation by reference. In accordance with requirements of 1 CFR 51.5, EPA is proposing to incorporate by reference revisions to Indiana rule 326 IAC 6.5-6-31, effective September 20, 2021, discussed in section II of this preamble. EPA has made, and will continue to make, these documents generally available through www.regulations.gov and at the EPA Region 5 Office (please contact the person identified in the FOR FURTHER INFORMATION CONTACT section of this preamble for more information).

VII. Statutory and Executive Order Reviews

Under the CAA the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference, Intergovernmental relations, Particulate matter, Reporting and recordkeeping requirements, Sulfur oxides.

Dated: September 22, 2022.
Debra Shore,
Regional Administrator, Region 5.

[FR Doc. 2022-21192 Filed 9-29-22; 8:45 am]

BILLING CODE 6560-50-P